DEPARTMENT OF ENERGY

Federal Energy Regulatory Commission

Sunshine Act Meetings; Notice of Vote, Explanation of Action Closing Meeting and List of Persons To Attend

The following notice of meeting is published pursuant to Section 3(a) of the Government in the Sunshine Act (Pub. L. 94-409), 5 U.S.C. 552b:

Agency Holding Meeting: Federal Energy Regulatory Commission.

TIME AND DATE: September 25, 2019.

*NOTE—The Closed meeting will follow the Joint meeting of the Federal Energy Regulatory Commission and the Nuclear Regulatory Commission.¹

¹ See Notice of Joint Meeting of the Federal Energy Regulatory Commission and the Nuclear Regulatory Commission, September 18, 2019.

PLACE: U.S. Nuclear Regulatory Commission, One White Flint North, 11555 Rockville Pike, Rockville, MD 20852.

STATUS: Closed.

MATTERS TO BE CONSIDERED: Non-Public Investigations and Inquiries, Enforcement Related Matters.

CONTACT PERSON FOR MORE INFORMATION: Kimberly D. Bose, Secretary, Telephone (202) 502-8400.

Chairman Chatterjee and Commissioners Glick, and McNamee voted to hold a closed meeting on September 25, 2019. The certification of the General Counsel explaining the action closing the meeting is available for public inspection in the Commission's Public Reference Room at 888 First Street NE, Washington, DC 20426.

The Chairman and the Commissioners, the General Counsel, and members of their staff, members of the Nuclear Regulatory Commission, and members of their staff are expected to attend the meeting. Other staff members from the Commission's program offices who will advise the Commissioners in the matters discussed will also be present.

Issued: September 18, 2019.
Kimberly D. Bose,
Secretary.

[FR Doc. 2019-20626 Filed 9-19-19; 11:15 am]

BILLING CODE 6717-01-P